CORPORATION FOR NATIONAL AND COMMUNITY SERVICE

Agency Information Collection Activities; Submission to the Office of Management and Budget for Review and Approval; Comment Request; VISTA Project Implementation Evaluation Sponsor Survey

AGENCY: Corporation for National and Community Service.

ACTION: Notice.

SUMMARY: The Corporation for National and Community Service (CNCS) has submitted a public information collection request (ICR) entitled Volunteers in Service to America (VISTA) Project Implementation Evaluation Sponsor Survey for review and approval in accordance with the Paperwork Reduction Act.

DATES: Written comments must be submitted to the individual and office listed in the ADDRESSES section by September 17, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling the Corporation for National and Community Service, Kelly Daly at 202-606-6849 or by email to kdaly@cns.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on Wednesday, February 5, 2020 at Vol. 85, No. 24, Page 6532. This comment period ended April 6, 2020. Zero public comments were received from this Notice.

Title of Collection: VISTA Project Implementation Evaluation Sponsor Survey.

OMB Control Number: TBD. Type of Review: New.

Respondents/Affected Public: Businesses and Organizations.

Total Estimated Number of Annual Responses: 800.

Total Estimated Number of Annual Burden Hours: 334.

Abstract: To inform CNCS's implementation of its Transformation and Sustainability Plan, JBS International, Inc. will perform a study about Volunteers in Service to America (VISTA) project development, management, and sustainability including member recruitment and retention. The survey of approximately 800 VISTA sponsors will be administered online. CNCS will use the results to identify implementation challenges and best practices among VISTA project sponsors that can inform program improvements and mitigate potential challenges. The data will also be used to develop training and technical assistance materials for internal staff and for external AmeriCorps VISTA project sponsors to strengthen and enhance VISTA programming. Sponsors will be sent individualized emails. Survey data will be merged with existing administrative data regarding project characteristics.

Dated: August 10, 2020.
Desiree Tucker-Sorini,
Director, AmeriCorps VISTA.

[FR Doc. 2020-17949 Filed 8-17-20; 8:45 am]

BILLING CODE 6050-28-P